OFFICE OF THE UNITED STATES TRADE REPRESENTATIVE

Notice of Meeting of the Industry Trade Advisory Committee on Automotive Equipment and Capitol Goods (ITAC-2)

AGENCY: Office of the United States Trade Representative.

ACTION: Notice of a partially opened meeting.

SUMMARY: The Industry Trade Advisory Committee on Automotive Equipment and Capitol Goods (ITAC-2) will hold a meeting on Wednesday, March 16, 2005, from 8 a.m. to 11 a.m. The meeting will be closed to the public from 8 a.m. to 9 a.m. and opened to the public from 9 a.m. to 11 a.m.

DATES: The meeting is scheduled for March 16, 2005, unless otherwise notified.

ADDRESSES: The meeting will be held at the Las Vegas Convention Center, located at 3150 Paradise Road, Las Vegas, Nevada 89109.

FOR FURTHER INFORMATION CONTACT: Richard Reise, DFO for ITAC-2 at (202) 482-3489, Department of Commerce, 14th Street and Constitution Avenue, NW., Washington, DC 20230.

SUPPLEMENTARY INFORMATION: During the opened portion of the meeting the following agenda items will be considered.

• Advisory Committee System

• Free Trade Agreements (FTAs)

• World Trade Organization (WTO) Talks

• Automotive and Capitol Goods Industry Issues

Christopher A. Padilla,
Assistant U.S. Trade Representative for Intergovernmental Affairs and Public Liaison.

[FR Doc. 05-3237 Filed 2-18-05; 8:45 am]

BILLING CODE 3190-W5-P